DEPARTMENT OF JUSTICE

Parole Commission

Public Announcement Pursuant to the Government in the Sunshine Act (Public Law 94-409) [5 U.S.C. Section 552b]

Agency: Parole Commission, Department of Justice.

Time and Date: 9:30 a.m., Thursday, September 11, 2003.

Place: 5550 Friendship Blvd., Fourth Floor, Chevy Chase, MD 20815.

Status: Open.

Matters to be considered: The following matters have been placed on the agenda for the open Parole Commission meeting:

1. Approval of Minutes of Previous Commission Meeting.

2. Reports from the Chairman, Commissioners, Legal, Chief of Staff, Case Operations, and Administrative Sections.

FOR FURTHER INFORMATION CONTACT: Thomas W. Hutchison, Chief of Staff, United States Parole Commission, (301) 492-5990.

Dated: September 4, 2003.
Rockne Chickinell,
General Counsel, U.S. Parole Commission.

[FR Doc. 03-22984 Filed 9-5-03; 10:00 am]

BILLING CODE 4410-31-M